Memorandum of July 7, 2023

Delegation of Authority of Certain National Emergency Expenditure Reporting Functions

Memorandum for the Secretary of Homeland Security[,] the Secretary of Health and Human Services[, and] the Secretary of the Treasury

By the authority vested in me as President by the Constitution and the laws of the United States of America, including the National Emergencies Act (50 U.S.C. 1601 et seq.) (NEA) and section 301 of title 3, United States Code, it is hereby ordered as follows:

Section 1. Delegations. The Secretary of Homeland Security is hereby authorized to submit expenditure information to the Congress on the national emergency declared in Proclamation 6867, as amended by Proclamation 7757, Proclamation 9398, and Proclamation 9699, consistent with section 401(c) of the NEA (50 U.S.C. 1641(c)). The Secretary of Homeland Security is hereby authorized to submit expenditure information to the Congress on the national emergency declared in Proclamation 10371, consistent with section 401(c) of the NEA. The Secretary of Health and Human Services, in consultation with the Secretary of the Treasury, is hereby authorized to submit expenditure information to the Congress on the national emergency declared in Proclamation 9994, consistent with section 401(c) of the NEA. With respect to the delegations under this section, the Secretaries may consult with the Congress as warranted to ensure that the Congress receives complete and accurate expenditure information as expeditiously as possible.

Sec. 2. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of Homeland Security is authorized and directed to publish this memorandum in the Federal Register.

THE WHITE HOUSE,

Washington, July 7, 2023

[FR Doc. 2023-14935

Filed 7-11-23; 11:15 am]

Billing code 4410-10-P